DEPARTMENT OF DEFENSE

Office of the Secretary

[Docket ID DoD-2013-OS-0167]

Privacy Act of 1974; System of Records

AGENCY: Defense Logistics Agency, DoD.

ACTION: Notice to add a new system of records.

SUMMARY: The Defense Logistics Agency proposes to add a new system of records, S240.55, DLA Mass Notification System (MNS), to its inventory of record systems subject to the Privacy Act of 1974 (5 U.S.C. 552a), as amended. This system will provide DLA installations with the ability to rapidly and effectively disseminate emergency alerts and notification information to DLA installation personnel.

DATES: This proposed action will be effective on August 26, 2013 unless comments are received which result in a contrary determination. Comments will be accepted on or before August 26, 2013.

ADDRESSES: You may submit comments, identified by docket number and title, by any of the following methods:

* Federal Rulemaking Portal: http://www.regulations.gov. Follow the instructions for submitting comments.

* Mail: Federal Docket Management System Office, 4800 Mark Center Drive, East Tower, 2nd Floor, Suite 02G09, Alexandria, VA 22350-3100.

Instructions: All submissions received must include the agency name and docket number for this Federal Register document. The general policy for comments and other submissions from members of the public is to make these submissions available for public viewing on the Internet at http://www.regulations.gov as they are received without change, including any personal identifiers or contact information.

FOR FURTHER INFORMATION CONTACT: Ms. Kathy Dixon, DLA FOIA/Privacy Act Office, Headquarters, Defense Logistics Agency, ATTN: DGA, 8725 John J. Kingman Road, Suite 1644, Fort Belvoir, VA 22060-6221, or by phone at (703) 767-6183.

SUPPLEMENTARY INFORMATION: The Defense Logistics Agency notice for systems of records subject to the Privacy Act of 1974 (5 U.S.C. 552a), as amended, have been published in the Federal Register and are available from the address in FOR FURTHER INFORMATION CONTACT or at the Defense Privacy and Civil Liberties Web site at http://dpclo.defense.gov/privacy/SORNs/component/dla/index.html. The proposed system report, as required by 5 U.S.C. 552a(r) of the Privacy Act of 1974, as amended, was submitted on July 16, 2013, to the House Committee on Oversight and Government Reform, the Senate Committee on Governmental Affairs, and the Office of Management and Budget (OMB) pursuant to paragraph 4c of Appendix I to OMB Circular No. A-130, “Federal Agency Responsibilities for Maintaining Records About Individuals,” dated February 8, 1996.

(February 20, 1996, 61 FR 6427).

Dated: July 19, 2013.
Aaron Siegel,
Alternate OSD Federal Register Liaison Officer, Department of Defense.

S240.55

System name:

DLA Mass Notification System (MNS)

System location:

Space and Naval Warfare Systems Center, 53560 Hull Street, San Diego, CA 92152-5001.

Categories of individuals covered by the system:

Defense Logistics Agency (DLA) military and civilian personnel and on-site contractors.

Categories of records in the system:

First name, last name, work email, work phone number, mobile phone number, short message service (SMS) (texting), telephone typewriter, teletypewriter or text phone/Telecommunications Device for the Deaf (TTY/TTD), personal email, home phone, pager (one or two-way). Records are from various communication mediums such as workstation pop-ups, telephone (work, mobile, home), email (work and home), pagers and SMS.

Authority for maintenance of the system:

5 U.S.C. 301, Departmental Regulations; 10 U.S.C. 136, Under Secretary of Defense for Personnel and Readiness; DODI 3020.42, Defense Continuity Plan Development; DODI 3020.52, DoD Installation Chemical, Biological, Radiological, Nuclear, and High-Yield Explosive (CBRNE) Preparedness Standards, and DODI 6055.17, DoD Installation Emergency Management (IEM) Program.

Purpose(s):

The DLA Mass Notification System (MNS) provides DLA installations with the ability to rapidly and effectively disseminate emergency alerts and notification information to DLA installation personnel.

Routine uses of records maintained in the system, including categories of users and the purposes of such uses:

In addition to those disclosures generally permitted under 5 U.S.C. 552a(b) of the Privacy Act of 1974, as amended, records may specifically be disclosed outside the DoD as a routine use pursuant to 5 U.S.C. 552a(b)(3) as follows:

The DoD Blanket Routine Uses may apply to this system of records.

Policies and practices for storing, retrieving, accessing, retaining, and disposing of records in the system:

Storage:

Electronic storage media.

Retrievability:

Data is retrieved by first and last name.

Safeguards:

Records may be accessed by the System Administrator, Emergency Management staff, and authorized designated installation representatives. They must have a Government Common Access Card (CAC) and associated Personal Identification Number (PIN) in addition to user identification and password for system access. Entry must list the technical, administrative, and physical safeguards employed by DLA to protect the records from loss, theft, and/or compromise.

Retention and disposal:

Permanent. Disposition pending NARA approval.

System manager(s) and address:

Project Manager, Space and Naval Warfare Systems Center, Code 53628, 53560 Hull Street, San Diego, CA 92152-5001.

System Engineer, Space and Naval Warfare Systems Center, Code 54310, 53560 Hull Street, San Diego, CA 92152-5001.

Notification procedure:

Individuals seeking to determine whether this system of records contains information about themselves should address written inquiries to the DLA FOIA/Privacy Act Office, Headquarters, Defense Logistics Agency, ATTN: DGA, 8725 John J. Kingman Road, Suite 1644, Fort Belvoir, VA 22060-6221.

Written requests should contain the record subject's full name, mailing address and telephone number.

Record access procedures:

Individuals seeking to access records about themselves contained in this system of records should address written inquiries to the DLA FOIA/Privacy Act Office, Headquarters, Defense Logistics Agency, ATTN: DGA, 8725 John J. Kingman Road, Suite 1644, Fort Belvoir, VA 22060-6221.

Written requests should contain the record subject's full name, mailing address and telephone number.

Contesting record procedures:

The DLA rules for accessing records, for contesting contents, and appealing initial agency determinations are contained in 32 CFR part 323, or may be obtained from the DLA FOIA/Privacy Act Office, Headquarters, Defense Logistics Agency, ATTN: DGA, 8725 John J. Kingman Road, Suite 1644, Fort Belvoir, VA 22060-6221.

Record source categories:

The information is provided through existing DLA information systems and the subject(s).

Exemptions claimed for the system:

None.

[FR Doc. 2013-17848 Filed 7-24-13; 8:45 am]

BILLING CODE 5001-06-P